DEPARTMENT OF COMMERCE

International Trade Administration

[A-570-916]

Laminated Woven Sacks From the People's Republic of China: Final Results of the Expedited Second Sunset Review of the Antidumping Duty Order

AGENCY: Enforcement and Compliance, International Trade Administration, Department of Commerce.

SUMMARY: As a result of this expedited sunset review, the Department of Commerce (Commerce) finds that revocation of the antidumping duty order on certain laminated woven sacks from the People's Republic of China (China) would be likely to lead to continuation or recurrence of dumping at the level indicated in the “Final Results of Sunset Review” section of this notice.

DATES: Applicable June 11, 2019.

FOR FURTHER INFORMATION CONTACT: Genevieve Coen, AD/CVD Operations, Office V, Enforcement and Compliance, International Trade Administration, U.S. Department of Commerce, 1401 Constitution Avenue NW, Washington, DC 20230; telephone: (202) 482-3251.

SUPPLEMENTARY INFORMATION:

Background

On August 7, 2008, Commerce published the Order on laminated woven sacks from China.¹ On February 5, 2019, Commerce published the notice of initiation of the second sunset review of the antidumping duty Order on laminated woven sacks from China, pursuant to section 751(c) of the Tariff Act of 1930, as amended (the Act).² On February 19, 2019, Commerce received a notice of intent to participate from the Laminated Woven Sacks Fair Trade Coalition and its individual members, Polytex Fibers Corporation and ProAmpac Holdings, Inc. (collectively, the domestic interested parties), within the deadline specified in 19 CFR 351.218(d)(1)(i).³ The domestic interested parties claimed interested party status under section 771(9)(C) of the Act, as a manufacturer of a domestic like product in the United States, and under section 771(9)(E) and (F) of the Act as a trade association whose members are producers of a domestic like product in the United States.

¹ See Notice of Antidumping Duty Order: Laminated Woven Sacks from the People's Republic of China, 73 FR 45941 (August 7, 2008) (Order).

² See Initiation of Five-Year (Sunset) Reviews, 84 FR 1704 (February 5, 2019).

³ See Laminated Woven Sacks Fair Trade Coalition's (LWSFTC) Letter, “Domestic Interested Parties Notice of Intent to Participate,” dated February 19, 2019.

On March 7, 2019, we received a complete substantive response from domestic interested parties within the 30-day deadline specified in 19 CFR 351.218(d)(3)(i).⁴ We received no substantive responses from respondent interested parties with respect to the Order covered by this sunset review, nor was a hearing requested. Commerce received no comments on the adequacy of responses in this sunset review. Pursuant to section 751(c)(3)(B) of the Act and 19 CFR 351.218(e)(1)(ii)(C)(2), Commerce is conducting an expedited (120-day) sunset review of this order.

⁴ See LWSFTC's Letter, “Domestic Interested Parties Substantive Response,” dated March 7, 2019.

Scope of the Order

The merchandise subject to the Order is laminated woven sacks. For a complete description of the scope of the Order, see the accompanying Issues and Decision Memorandum.⁵

⁵ See Memorandum, “Issues and Decision Memorandum for the Expedited Second Sunset Review of the Antidumping Duty Order on Laminated Woven Sacks from the People's Republic of China” (Issues and Decision Memorandum), dated concurrently with these results and hereby adopted by this notice.

Analysis of Comments Received

All issues raised in this review, including the likelihood of continuation or recurrence of dumping in the event of revocation and the magnitude of the margins of dumping likely to prevail if the Order were revoked, are listed in the Appendix to this notice, and addressed in the accompanying Issues and Decision Memorandum. The Issues and Decision Memorandum is a public document and is on file electronically via Enforcement and Compliance's Antidumping and Countervailing Duty Centralized Electronic Service System (ACCESS). ACCESS is available to registered users at http://access.trade.gov, and to all parties in the Central Records Unit, Room B8024 of the main Department of Commerce building. In addition, a complete version of the Issues and Decision Memorandum can be accessed directly on the internet at http://enforcement.trade.gov/frn/. The signed Issues and Decision Memorandum and the electronic version of the Issues and Decision Memorandum are identical in content.

Final Results of Sunset Reviews

Pursuant to sections 751(c)(1) and 752(c)(1) and (3) of the Act, we determine that revocation of the antidumping duty Order on laminated woven sacks from China would be likely to lead to continuation or recurrence of dumping, and that the magnitude of the margins likely to prevail would be weighted-average dumping margins up to 91.73 percent.

Notification to Interested Parties

This notice serves as the only reminder to parties subject to an administrative protective order (APO) of their responsibility concerning the return or destruction of proprietary information disclosed under APO in accordance with 19 CFR 351.305. Timely written notification of the return or destruction of APO materials or conversion to judicial protective order is hereby requested. Failure to comply with the regulations and terms of an APO is a violation which is subject to sanction.

We are issuing and publishing these results and notice in accordance with sections 751(c), 752(c), and 777(i)(1) of the Act and 19 CFR 351.218.

Dated: June 5, 2019.
Jeffrey I. Kessler,
Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins of Dumping Likely to Prevail

VII. Final Results of Sunset Review

VIII. Recommendation

[FR Doc. 2019-12284 Filed 6-10-19; 8:45 am]

BILLING CODE 3510-DS-P